ENVIRONMENTAL PROTECTION AGENCY

[FRL-6576-5]

Notice of Disclosure of Confidential Business Information Obtained Under the Comprehensive Environmental Response, Compensation and Liability Act to EPA Contractor Science Applications International Corporation and Its Subcontractors

AGENCY: Environmental Protection Agency.

ACTION: Notice, request for comment.

SUMMARY: The Environmental Protection Agency (“EPA”) hereby complies with the requirements of 40 CFR 2.310(h) for authorization to disclose to the Science Applications International Corporation (“SAIC”), of San Francisco, California, and its subcontractors, Superfund confidential business information (“CBI”) submitted to EPA Region 9.

DATES: Comments, pursuant to 40 CFR 2.310(h)(2), may be submitted by April 27, 2000.

ADDRESSES: Comments should be sent to: Environmental Protection Agency, Region 9, Katherine Meltzer (PMD-8), 75 Hawthorne Street, San Francisco, CA 94105.

FOR FURTHER INFORMATION CONTACT: Katherine Meltzer, Policy & Management Division, Environmental Protection Agency, Region 9, 75 Hawthorne Street, San Francisco, CA 94105, (415) 744-1609.

SUPPLEMENTARY INFORMATION:

Notice of Required Determinations, Contract Provisions and Opportunity To Comment

The Comprehensive Environmental Response, Compensation, and Liability Act of 1980 (“CERCLA”) as amended, (commonly known as “Superfund”) requires completion of enforcement activities at Superfund sites in concert with other site events. EPA has entered into a contract, No. 68-S9-00-10, with SAIC for Superfund enforcement support services. These services will be provided to EPA by SAIC and its subcontractors Cotton & Co. of Alexandria, VA; Indus Corporation of Vienna, VA; Jonas & Associates, Inc. of Walnut Creek, CA; Petroleum Properties of Dixon CA; KPMG LLP of San Francisco, CA; McDonald & Associates of Capay, CA; Orswell & Kasman of Pasadena, CA; Power Partners, Inc. of San Francisco, CA; and ReVision, Inc. of Denver, CO. EPA has determined that disclosure of CBI to SAIC employees, and its subcontractors' employees, is necessary in order that SAIC may carry out the work required by that contract with EPA. The information EPA intends to disclose includes submissions made by Potentially Responsible Parties to EPA in accordance with EPA's enforcement activities at Superfund sites. The information would be disclosed to the contractor and its subcontractor for any of the following reasons: to assist with document handling, inventory, and indexing; to assist with document review and analysis; to verify completeness; and to provide technical review of submittals. The contract complies with all requirements of 40 CFR 2.301(h)(2)(ii), incorporated by reference into 40 CFR 2.310(h)(2). EPA Region 9 will require that each SAIC employee and subcontractor employee sign a written agreement that he or she: (1) Will use the information only for the purpose of carrying out the work required by the contract, (2) shall refrain from disclosing the information to anyone other than EPA without prior written approval of each affected business or of an EPA legal office, and (3) shall return to EPA all copies of the information (and any abstracts or extracts therefrom) upon request from the EPA program office, whenever the information is no longer required by SAIC and its subcontractors for performance of the work required by the contract or upon completion of the contract or subcontract.

Dated: March 30, 2000.
Keith Takata,
Director, Superfund Division, EPA, Region 9.

[FR Doc. 00-9092 Filed 4-14-00; 8:45 am]

BILLING CODE 6560-50-P